DEPARTMENT OF TRANSPORTATION

Coast Guard

33 CFR Part 117

[CGD01-00-247]

Mystic River, CT, Drawbridge Operation Regulations:

AGENCY: Coast Guard, DOT.

ACTION: Notice of temporary deviation from regulations.

SUMMARY: The Commander, First Coast Guard District, has issued a temporary deviation from the drawbridge operation regulations governing the operation of AMTRAK railroad bridge, at mile 2.4, across the Mystic River at Mystic, Connecticut. This deviation allows the bridge owner to open the bridge only three times a day at 6:30 a.m. to 7:30 a.m., 12:30 p.m. to 1 p.m., and 6:15 p.m. to 7 p.m. from December 11, 2000 to December 13, 2000. This action is necessary to facilitate replacement of the pinion at the bridge.

EFFECTIVE DATES: This deviation is effective from December 11, 2000, to December 13, 2000.

FOR FURTHER INFORMATION CONTACT: Joe Arca, Project Officer, First Coast Guard District, at (212) 668-7165.

SUPPLEMENTARY INFORMATION: The AMTRAK railroad bridge, at mile 2.4, across the Mystic River, has a vertical clearance of 4 feet at mean high water, and 7 feet at mean low water in the closed position. The existing drawbridge operating regulations are listed at 33 CFR 117.211(a).

The bridge owner requested a temporary deviation from the drawbridge operating regulations to open the bridge only three times a day at 6:30 a.m. to 7:30 a.m., 12:30 p.m. to 1 p.m., and 6:15 p.m. to 7 p.m., from December 11, 2000 to December 13, 2000, to facilitate the replacement of the pinion at the bridge. Vessels that can pass under the bridge without an opening may do so at all times during the closed period.

In accordance with 33 CFR 117.35(c), this work will be performed with all due speed in order to return the bridge to normal operation as soon as possible. This deviation from the operating regulations is authorized under 33 CFR 117.35.

Dated: November 24, 2000.
Gerald M. Davis,
Captain, U.S. Coast Guard, Acting Commander, First Class Guard District.

[FR Doc. 00-31096 Filed 12-5-00; 8:45 am]

BILLING CODE 4910-15-M